DEPARTMENT OF TRANSPORTATION

Federal Aviation Administration

14 CFR Part 39

[Docket No. FAA-2010-0551; Directorate Identifier 2009-NM-202-AD; Amendment 39-16333; AD 2010-13-02]

RIN 2120-AA64

Airworthiness Directives; Fokker Services B.V. Model F.27 Mark 500 and 600 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

A Fokker 50 operator reported an overextended MLG [main landing gear] sliding member after landing. During subsequent investigation it was found that an end stop had unscrewed itself to a certain extent. This caused the MLG torque links to move into an overcentre position against the MLG sliding member. Investigation learned that there was no lockwiring present on the two lockbolts, which hold the end stop. This condition, if not corrected, could lead to structural damage of the main gear and loss of control of the aeroplanes during the landing roll.

This AD requires actions that are intended to address the unsafe condition described in the MCAI.

DATES: This AD becomes effective July 8, 2010.

The Director of the Federal Register approved the incorporation by reference of a certain publication listed in the AD as of July 8, 2010.

We must receive comments on this AD by August 9, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION: The European Aviation Safety Agency (EASA), which is the Technical Agent for the Member States of the European Community, has issued EASA Airworthiness Directive 2009-0145, dated July 31, 2009 (referred to after this as “the MCAI”), to correct an unsafe condition for the specified products. The MCAI states:

A Fokker 50 operator reported an overextended MLG [main landing gear] sliding member after landing. During subsequent investigation it was found that an end stop had unscrewed itself to a certain extent. This caused the MLG torque links to move into an overcentre position against the MLG sliding member. Investigation learned that there was no lockwiring present on the two lockbolts, which hold the end stop. This condition, if not corrected, could lead to structural damage of the main gear and loss of control of the aeroplanes during the landing roll.

EASA issued AD 2009-0018 to address this unsafe condition [on Model Mark 050, Mark 0502 and Mark 0604 airplanes]. Earlier F27 Mark 500 and 600 `RFV' aeroplanes are equipped with similar design MLG units.

For the reasons described above, this AD requires repetitive [general visual] inspections for the presence and proper application of lockwiring on the two lockbolts which hold the sliding member end stop, and corrective action, depending on findings.

Required actions include repetitive measurements of the length of the extended portion of the MLG sliding member, and corrective actions including repetitively inspecting the lockwiring on the two sliding member end stop lock bolts for missing or damaged lockwiring, and installing lockwiring, as applicable. You may obtain further information by examining the MCAI in the AD docket.

Relevant Service Information

Fokker Services B.V. has issued Fokker Service Bulletin F27/32-172, dated January 26, 2009. Fokker Service Bulletin F27/32-172, dated January 26, 2009, refers to Messier-Dowty Service Bulletin 32-91W, dated September 8, 2008, as an additional source of guidance for accomplishment of the actions required by this AD. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2010-0551; Directorate Identifier 2009-NM-202-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-13-02 Fokker Services B.V.: Amendment 39-16333. Docket No. FAA-2010-0551; Directorate Identifier 2009-NM-202-AD.

Effective Date

(a) This airworthiness directive (AD) becomes effective July 8, 2010.

Affected ADs

(b) None.

Applicability

(c) This AD applies to Fokker Services B.V. Model F.27 Mark 500 and 600 airplanes; certified in any category; having serial numbers (S/Ns) 10452, 10525,10530, 10531, 10550, 10557, 10559, 10566, 10569, 10589, 10603, 10605, 10606, 10613, 10615, 10623 through 10631 inclusive, 10633, 10637, 10639, 10641, 10642, 10669, and 10672.

Subject

(d) Air Transport Association (ATA) of America Code 32: Landing Gear.

Reason

(e) The mandatory continued airworthiness information (MCAI) states:

A Fokker 50 operator reported an overextended MLG [main landing gear] sliding member after landing. During subsequent investigation it was found that an end stop had unscrewed itself to a certain extent. This caused the MLG torque links to move into an overcentre position against the MLG sliding member. Investigation learned that there was no lockwiring present on the two lockbolts, which hold the end stop. This condition, if not corrected, could lead to structural damage of the main gear and loss of control of the aeroplanes during the landing roll.

Compliance

(f) You are responsible for having the actions required by this AD performed within the compliance times specified, unless the actions have already been done.

Actions

(g) Within 500 flight cycles after the effective date of this AD, measure the length of the extended portion of the sliding member of the main landing gear (MLG), in accordance with Part 1 of the Accomplishment Instructions of Fokker Service Bulletin F27/32-172, dated January 26, 2009. Repeat the measurement at intervals not to exceed 500 flight cycles until lockwiring is installed in accordance with Fokker Service Bulletin F27/32-172, dated January 26, 2009, or the requirements of paragraph (h) of this AD have been completed.

(h) At the applicable time specified in paragraph (h)(1) or (h)(2) of this AD, perform a general visual inspection for the presence of lockwiring and damage to lockwiring on the two sliding member end stop lock bolts of the MLG, in accordance with Part 2 of the Accomplishment Instructions of Fokker Service Bulletin F27/32-172, dated January 26, 2009. If lockwiring is missing or damaged, install lockwiring before further flight, in accordance with Fokker Service Bulletin F27/32-172, dated January 26, 2009.

(1) If, during any measurement required by paragraph (g) of this AD, overextension is found, or the measurement has increased by 1.0 millimeter (mm) or more compared to the previous measurement, inspect before further flight.

(2) If during any measurement required by paragraph (g) of this AD, no overextension is found and the measurement has not increased by 1.0 mm or more compared to the previous measurement, inspect within 4,000 flight hours after the effective date of this AD.

Note 1: Fokker Service Bulletin F27/32-172, dated January 26, 2009, refers to Messier-Dowty Service Bulletin 32-91W, dated September 8, 2008, as an additional source of guidance.

(i) If, during any measurement required by paragraph (g) of this AD, overextension is found or the measurement has increased by 1.0 mm or more compared to the previous measurement; or if, during any inspection required by paragraph (h) of this AD, lockwiring is not present or is not installed correctly; submit a report to Fokker Services B.V., Technical Services Dept., P.O. Box 231, 2150 AE Nieuw-Vennep, the Netherlands; telephone +31 (0)252-627-350; fax +31 (0)252-627-211; e-mail technicalservices.fokkerservices@stork.com; Internet http://www.myfokkerfleet.com; at the applicable time specified in paragraph (i)(1) or (i)(2) of this AD. The report must include any finding of overextension or incorrect or missing lockwiring.

(1) If the inspection or measurement was done on or after the effective date of this AD: Submit the report within 30 days after the inspection or measurement was accomplished, as applicable.

(2) If the inspection or measurement was accomplished prior to the effective date of this AD: Submit the report within 30 days after the effective date of this AD.

(j) If lockwiring is installed in accordance with paragraph (h) of this AD, or if no discrepancies are found during the inspection required by paragraph (h) of this AD, as applicable, the repetitive measurement required by paragraph (g) of this AD is no longer required by this AD.

(k) As of the effective date of this AD: No person may install a MLG on any airplane unless Part 2 of Fokker Service Bulletin F27/32-172, dated January 26, 2009, has been accomplished for that part.

FAA AD Differences

Note 2: This AD differs from the MCAI and/or service information as follows: No differences.

Other FAA AD Provisions

(l) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(m) Refer to MCAI European Aviation Safety Agency Airworthiness Directive 2009-0145, dated July 31, 2009; and Fokker Service Bulletin F27/32-172, dated January 26, 2009; for related information.

Material Incorporated by Reference

(n) You must use Fokker Service Bulletin F27/32-172, dated January 26, 2009, to do the actions required by this AD, unless the AD specifies otherwise.

(1) The Director of the Federal Register approved the incorporation by reference of this service information under 5 U.S.C. 552(a) and 1 CFR part 51.

(2) For Fokker service information identified in this AD, contact Fokker Services B.V., Technical Services Dept., P.O. Box 231, 2150 AE Nieuw-Vennep, the Netherlands; telephone +31 (0)252-627-350; fax +31 (0)252-627-211; e-mail technicalservices.fokkerservices@stork.com; Internet http://www.myfokkerfleet.com. For Messier-Dowty service information identified in this AD, contact Messier-Dowty: Messier Services Americas, Customer Support Center, 45360 Severn Way, Sterling, Virginia 20166-8910; telephone 703-450-8233; fax 703-404-1621; Internet https://techpubs.services/messier-dowty.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on June 10, 2010.
Jeffrey E. Duven,
Acting Manager, Transport Airplane Directorate, Aircraft Certification Service.

[FR Doc. 2010-14783 Filed 6-22-10; 8:45 am]

BILLING CODE 4910-13-P